DEPARTMENT OF COMMERCE

National Oceanic and Atmospheric Administration

RIN: 0648-XE59

Pacific Fishery Management Council; Public Meeting

AGENCY: National Marine Fisheries Service (NMFS), National Oceanic and Atmospheric Administration (NOAA), Commerce.

ACTION: Notice of a public meeting.

SUMMARY: The Pacific Fishery Management Council's (Council) Highly Migratory Species Management Team (HMSMT) will hold a work session, which is open to the public.

DATES: The work session will be from 8:30 a.m. to 5 p.m. on Tuesday, January 15 and from 8:30 a.m. until the business of the meeting is finished on Wednesday, January 16, 2008.

ADDRESSES: The work session will be held at the National Marine Fisheries Service, Southwest Fisheries Science Center, Large Conference Room, 8604 La Jolla Shores Drive, La Jolla, CA 92037, telephone: (858) 546-7000.

Council address: Pacific Fishery Management Council, 7700 NE Ambassador Place, Suite 101, Portland, OR 97220-1384.

FOR FURTHER INFORMATION CONTACT: Dr. Kit Dahl, Pacific Fishery Management Council; telephone: (503) 820-2280.

SUPPLEMENTARY INFORMATION: The HMSMT will discuss two major topics: (1) developing a range of alternatives for a limited entry program to allow a shallow-set longline fishery, which targets swordfish, to be prosecuted on the high seas from the West Coast and (2) a draft report on Council recommendations in response to overfishing of Eastern Pacific yellowfin tuna, as required by Section 304(i) of the Magnuson-Stevens Fishery Conservation and Management Act. The Council is scheduled to take up both these issues at their March 2008, meeting in Sacramento, CA. Time permitting, the HMSMT may discuss additional items to include PacFIN/RecFIN data issues and preparation of the Highly Migratory Species Stock Assessment Fishery Evaluation (SAFE) report.

Although non-emergency issues not contained in the meeting agenda may be discussed, those issues may not be the subject of formal action during this meeting. Action will be restricted to those issues specifically listed in this document and any issues arising after publication of this document that require emergency action under Section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Authority: 16 U.S.C. 1801 et seq.

Dated: December 19, 2007.
Tracey L. Thompson,
Acting Director, Office of Sustainable Fisheries, National Marine Fisheries Service.

[FR Doc. E7-24917 Filed 12-21-07; 8:45 am]

BILLING CODE 3510-22-S